DEPARTMENT OF TRANSPORTATION

Federal Aviation Administration

Executive Committee of the Aviation Rulemaking Advisory Committee; Meeting

AGENCY: Federal Aviation Administration (FAA), DOT.

ACTION: Notice of meeting.

SUMMARY: The FAA is issuing this notice to advise the public of a meeting of the Executive Committee of the Federal Aviation Administration Aviation Rulemaking Advisory Committee.

DATES: The meeting is scheduled for March 13, 2002, at 10 a.m.

ADDRESSES: The meeting will be held at the Holiday Inn on Capitol Hill, 415 New Jersey Ave., NW, Congressional Room, Washington, DC, 20001.

FOR FURTHER INFORMATION CONTACT: Gerri Robinson, Federal Aviation Administration, 800 Independence Avenue, SW., Washington, DC 20591, telephone (202) 267-9678; fax (202) 267-5075; e-mail Gerri.Robinson@faa.gov.

SUPPLEMENTARY INFORMATION: Pursuant to section 10(a)(2) of the Federal Advisory Committee Act (Pub. L. 92-463; 5 U.S.C. App. II), notice is hereby given of a meeting of the Executive Committee to be held on March 13, 2002, at the Holiday Inn on Capitol Hill, 415 New Jersey Ave., NW, Congressional Room, Washington, DC 20001. The agenda will include:

• Fuel Tank Inerting Working Group report

• Status reports from Assistant Chairs

• Committee Schedule for Calendar Year 2002

The Executive Committee will deliberate on the Fuel Tank Inerting Working Group's report to ARAC. The report recommends the FAA, the National Air and Space Administration, and the aviation industry conduct further research with an objective of developing more viable solutions for reducing fuel tank flammability sooner than any of the inerting concepts evaluated can be implemented.

Attendance is open to the interested public but will be limited to the space available. The FAA will arrange teleconference capability for individuals wishing to join in by teleconference if we receive that notification by March 1, 2002. Arrangements to participate by teleconference can be made by contacting the person listed in the FOR FURTHER INFORMATION CONTACT section. Callers outside the Washington metropolitan area will be responsible for paying long-distance charges.

The public must arrange-by March 1 to present oral statements at the meeting. The public may present written statements to the executive committee at any time by providing 25 copies to the Executive Director, or by bringing the copies to the meeting.

If you are in need of assistance or require a reasonable accommodation for this meeting, please contact the person listed under the heading FOR FURTHER INFORMATION CONTACT.

Issued in Washington, DC, on February 4, 2002.
Anthony F. Fazio,
Executive Director, Aviation Rulemaking Advisory Committee.

[FR Doc. 02-3244 Filed 2-8-02; 8:45 am]

BILLING CODE 4910-13-M